DEPARTMENT OF THE INTERIOR

Fish and Wildlife Service

[FWS-R8-ES-2010-N087; 1112-0000-81440-F2]

Endangered and Threatened Wildlife and Plants; Permits, Santa Cruz County, CA

AGENCY: U.S. Fish and Wildlife Service, Interior.

ACTION: Notice of availability.

SUMMARY: We, the U.S. Fish and Wildlife Service (Service), have received applications from William Menchine and Alicia Stanton and the San Lorenzo Valley Water District (applicants) for incidental take permits under the Endangered Species Act of 1973, as amended (Act). We are considering issuing permits that would authorize the applicants' take of the Federally endangered Mount Hermon June beetle (Polyphylla barbata) incidental to otherwise lawful activities that would result in the permanent loss of 0.05 acre (2,182 square feet (sq ft)) of Mount Hermon June beetle habitat near Santa Cruz, Santa Cruz County, California. We invite comments from the public on the applications, which include Habitat Conservation Plans (HCPs) that fully describe the proposed projects and measures the applicants would undertake to minimize and mitigate anticipated take of the species. We also invite comments on our preliminary determination that the HCPs qualify as “low-effect” plans, eligible for categorical exclusions under the National Environmental Policy Act (NEPA) of 1969, as amended. We explain the basis for this determination in our draft Environmental Action Statements and associated Low-Effect Screening Forms, both of which are also available for review.

DATES: To ensure consideration, please send your written comments by June 1, 2010.

ADDRESSES: You may download a copy of the permit applications, plans, and related documents on the Internet at http://www.fws.gov/ventura/, or you may request documents by U.S. mail or phone (see below). Please address written comments to Diane K. Noda, Field Supervisor, Ventura Fish and Wildlife Office, U.S. Fish and Wildlife Service, 2493 Portola Road, Suite B, Ventura, CA 93003. You may alternatively send comments by facsimile to (805) 644-3958.

FOR FURTHER INFORMATION CONTACT: Jen Lechuga, HCP Coordinator, at the Ventura address above, or by telephone at (805) 644-1766, extension 224.

SUPPLEMENTARY INFORMATION:

Background

The Mount Hermon June beetle was listed as endangered on January 24, 1997 (62 FR 3616). Section 9 of the Act (16 U.S.C. 1531 et seq.) and our implementing Federal regulations in the Code of Federal Regulations (CFR) at 50 CFR part 17 prohibit the “take” of fish or wildlife species listed as endangered or threatened. Take of listed fish or wildlife is defined under the Act as “to harass, harm, pursue, hunt, shoot, wound, kill, trap, capture, or collect, or to attempt to engage in any such conduct” (16 U.S.C. 1532). However, under limited circumstances, we issue permits to authorize incidental take (i.e., take that is incidental to, and not the purpose of, the carrying out of an otherwise lawful activity). Regulations governing incidental take permits for threatened and endangered species are at 50 CFR 17.32 and 17.22, respectively. The Act's take prohibitions do not apply to Federally listed plants on private lands unless such take would violate State law. In addition to meeting other criteria, an incidental take permit's proposed actions must not jeopardize the existence of Federally listed fish, wildlife, or plants.

Reconstruction of the home's failing foundation and construction of a retaining wall for the Menchine HCP would take place within a 0.44-acre parcel (APN 060-361-03) located at 6 Lyle Way near the city of Santa Cruz, Santa Cruz County, California. The parcel contains Zayante sand soils and vegetation consisting primarily of landscaping. The parcel is presumed to be occupied by the Mount Hermon June beetle, as the species is known to occur approximately 650 feet to the north of the property. Implementation of the project would result in impacts to a total of 0.05 acre (1,993 sq ft) of habitat for the Mount Hermon June beetle. Impacts would result in the permanent loss of 0.04 acre (1,543 sq ft) and the temporary loss of 0.01 acre (450 sq ft) of Mount Hermon June beetle habitat. The Menchines propose to implement the following measures to minimize and mitigate for the loss of Mount Hermon June beetle habitat within the permit area: (1) Applicants will purchase 0.05 acre (1,993 sq ft) of conservation credits at the Ben Lomond Sandhills Preserve of the Zayante Sandhills Conservation Bank, operated by PCO, LLC; (2) a qualified biologist will oversee construction and provide worker training on the Mount Hermon June beetle and requirements of the HCP; (3) temporary fencing will be installed to demarcate the impact area from the remainder of the property; (4) any life stages of the Mount Hermon June beetle will be captured and relocated if one is observed in an area that would be impacted; (5) dust control measures will be implemented to reduce impacts to the Mount Hermon June beetle and its habitat; (6) the 0.01-acre (450-sq-ft) area of temporary habitat disturbance will be revegetated with native Sandhills plant species; and (7) all exposed soils will be covered with impermeable material if construction occurs during the species' flight season.

The Menchine HCP considers three alternatives to the taking of Mount Hermon June beetle. The No Action alternative would maintain current conditions, the project would not be implemented, and an incidental take permit application would not be submitted to the Service. The second alternative would involve a redesign of the project. The project would be reduced in scale under this alternative; however, is not practical, as the home's foundation requires repair, and a retaining wall is necessary for slope stabilization. The third alternative is the proposed action, which includes issuing an incidental take permit to the applicants, who would then implement the HCP.

Construction of a pump house and pipeline for the Mañana Woods HCP would take place primarily at 140 Elena Court (APN 067-081-55), a 10.6-acre parcel, with a small portion crossing through 324 Blueberry Drive (APN 067-081-41), a 1.8-acre parcel. Both parcels are located just southwest of the City of Scotts Valley, Santa Cruz County, California. The applicant has received authorization from the two landowners to implement the project on private land. Both parcels contain Zayante sand soils with vegetation consisting of native and nonnative plant species and mixed evergreen forest. The parcels are presumed to be occupied by the Mount Hermon June beetle, as the species is known to occur at several locations within 0.75 mile of the project area.

The Mañana Woods project would result in impacts to a total of 0.05 acre (1,942 sq ft) of habitat for the Mount Hermon June beetle. Impacts would result in the permanent loss of 0.02 acre (639 sq ft), and the temporary loss of 0.03 acre (1,303 sq ft) of habitat for the species. The applicant proposes to implement the following measures to minimize and mitigate for the loss of Mount Hermon June beetle habitat within the permit area: (1) Applicant will purchase 0.05 acre (1,942 sq ft) of conservation credits at the Ben Lomond Sandhills Preserve of the Zayante Sandhills Conservation Bank, operated by PCO, LLC; (2) a qualified biologist will oversee construction and provide worker training on the Mount Hermon June beetle and requirements of the HCP; (3) any life stages of the Mount Hermon June beetle will be captured and relocated if one is observed in an area that would be impacted; (4) the use of outdoor night lighting will be minimized to avoid disrupting the species' breeding activity; (5) no landscaping will be used in order to avoid adverse effects to the species; and (6) all exposed soil will be covered with impermeable material if construction occurs during the species' flight season.

In the Mañana Woods HCP, three alternatives to the taking of listed species are considered. The No Action alternative would maintain current conditions, the project would not be implemented, and an incidental take permit application would not be submitted to the Service. The second alternative would involve a project redesign that would relocate construction to the mixed evergreen forest habitat on site. This option was rejected because the location was deemed suboptimal, potentially resulting in substandard performance, and the pipeline installation would be significantly greater, resulting in undue financial burden on the applicant. The third alternative is the proposed action, which includes issuing an incidental take permit to the applicant, who would then implement the HCP.

We are requesting comments on our preliminary determination that both applicants' proposals will have a minor or negligible effect on the Mount Hermon June beetle, and that the HCPs both qualify as “low-effect” HCPs as defined by our Habitat Conservation Planning Handbook (November 1996). We base our determination that the plans qualify as low-effect HCPs on the following three criteria: (1) Implementation of the HCPs would result in minor or negligible effects on Federally listed, proposed, and candidate species and their habitats; (2) implementation of the HCPs would result in minor or negligible effects on other environmental values or resources; and (3) impacts of the HCPs, considered together with the impacts of other past, present, and reasonably foreseeable similarly situated projects, would not result, over time, in cumulative effects to the environmental values or resources that would be considered significant. As more fully explained in our Environmental Action Statements and associated Low-Effect Screening Forms, both applicants' proposed HCPs qualify as “low-effect” HCPs for the following reasons:

(1) Approval of the HCPs would result in minor or negligible effects on the Mount Hermon June beetle and its habitat. We do not anticipate significant direct or cumulative effects to the Mount Hermon June beetle resulting from the proposed projects;

(2) Approval of the HCPs would not have adverse effects on unique geographic, historic, or cultural sites, or involve unique or unknown environmental risks;

(3) Approval of the HCPs would not result in any cumulative or growth-inducing impacts and would not result in significant adverse effects on public health or safety;

(4) The projects do not require compliance with Executive Order (E.O.) 11988 (Floodplain Management), Executive Order 11990 (Protection of Wetlands), or the Fish and Wildlife Coordination Act, nor do they threaten to violate a Federal, State, local, or Tribal law or requirement imposed for the protection of the environment; and

(5) Approval of the HCPs would not establish a precedent for future actions or represent a decision in principle about future actions with potentially significant environmental effects.

We, therefore, have made the preliminary determination that approval of the HCPs and incidental take permits qualify as categorical exclusions under the National Environmental Policy Act (NEPA; 42 U.S.C. 4321 et seq.), as provided by the Department of the Interior Manual (516 DM 2 Appendix 1 and 516 DM 8). Based on our review of public comments that we receive in response to this notice, we may revise the preliminary determinations.

Next Steps

We will evaluate the HCPs and comments we receive to determine whether the permit applications meet the requirements of section 10(a) of the Act (16 U.S.C. 1531 et seq.). If we determine that the applications meet these requirements, we will issue two permits for the incidental take of the Mount Hermon June beetle. We will also evaluate whether issuance of the section 10(a)(1)(B) permits would comply with section 7 of the Act by conducting intra-Service section 7 consultations for each plan. We will use the results of these consultations, in combination with the above findings, in our final analysis to determine whether or not to issue the permits. If the requirements are met, we will issue the permits to the applicants.

Public Comments

If you wish to comment on the permit applications, plans, and associated documents, you may submit comments by any one of the methods in ADDRESSES.

Public Availability of Comments

Before including your address, phone number, e-mail address, or other personal identifying information in your comments, you should be aware that your entire comment—including your personal identifying information—may be made publicly available at any time. While you can ask us in your comment to withhold your personal identifying information from public review, we cannot guarantee that we will be able to do so.

Authority

We provide this notice under section 10 of the Act (16 U.S.C. 1531 et seq.) and NEPA regulations (40 CFR 1506.6).

Dated: April 23, 2010.
Diane K. Noda,
Field Supervisor, Ventura Fish and Wildlife Office, Ventura, California.

[FR Doc. 2010-10086 Filed 4-29-10; 8:45 am]

BILLING CODE 4310-55-P